DEPARTMENT OF ENERGY

[Docket No. EG02-126-000, et al.]

Federal Energy Regulatory Commission

June 7, 2002.

Central Illinois Generation, Inc., et al.; Electric Rate and Corporate Regulation Filings

The following filings have been made with the Commission. The filings are listed in ascending order within each docket classification.

1. Central Illinois Generation, Inc.

[Docket No. EG02-126-000]

Take notice that on June 3, 2002, Central Illinois Generation, Inc. tendered for filing with the Federal Energy Regulatory Commission (Commission) an Amendment to the Application for Exempt Wholesale Generator Status.

Comment Date: June 24, 2002.

2. Central Maine Power Company

[Docket No. EL02-11-002]

Take notice that on May 22, 2002, Central Maine Power Company (CMP) tendered for filing with the Federal Energy Regulatory Commission (Commission or FERC) in compliance with the Commission's order issued on April 24, 2002 in Docket No. EL02-11-000, and in accordance with FERC Order 614, a First Revised Interconnection Agreement between CMP and Abbotts Mill Hydro (Abbotts Mill) (each a Party and, collectively, the Parties).

Comment Date: June 19, 2002.

3. Alliance Companies, et al.

[Docket Nos. EL02-65-003 and RT01-88-020]

Take notice that on May 28, 2002, Commonwealth Edison Company and Commonwealth Edison Company of Indiana (collectively Com Ed) tendered for filing with the Federal Energy Regulatory Commission (Commission) a filing in compliance with ordering paragraph “ of the Commission's April 25, 2002 Order on Petition for Declaratory Order in the above-captioned dockets.

Comment Date: June 17, 2002.

4. Alliance Companies

[Docket No.EL02-65-005]

Take notice that on May 28, 2002, Electric Power Service Corporation, on behalf of certain of its affiliated operating companies, submitted a compliance filing pursuant to Ordering Paragraph “ of the Commission's April 25, 2002, order in the referenced docket.

Comment Date: June 18, 2002.

5. Ameren Services Company

[Docket No.EL02-65-006]

Take notice that on May 28, 2002, Ameren Services Company submitted a compliance filing pursuant to the Commission's April 25, 2002, order in the referenced docket.

Comment Date: June 18, 2002.

6. Midwest Independent Transmission System Operator, Inc.

[Docket No. ER02-1986-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Wolverine Power Supply Cooperative, Inc.

A copy of this filing was sent to Wolverine Power Supply Cooperative, Inc.

Comment Date: June 21, 2002.

7. Midwest Independent Transmission System Operator, Inc.

[Docket No. ER02-1987-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by TransAlta Energy Marketing (U.S.) Inc.

A copy of this filing was sent to TransAlta Energy Marketing (U.S.) Inc.

Comment Date: June 21, 2002.

8. Midwest Independent Transmission System Operator, Inc.

[Docket No. ER02-1988-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Minnesota Power.

A copy of this filing was sent to Minnesota Power.

Comment Date: June 21, 2002.

9. Midwest Independent Transmission System Operator, Inc.

[Docket No. ER02-1989-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by New York State Electric and Gas Corporation.

A copy of this filing was sent to New York State Electric and Gas Corporation.

Comment Date: June 21, 2002.

10. Midwest Independent Transmission System Operator, Inc.

[Docket No. ER02-1990-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Public Service Electric and Gas Company.

A copy of this filing was sent to Public Service Electric and Gas Company.

Comment Date: June 21, 2002.

11. Midwest Independent Transmission System Operator, Inc.

[Docket No. ER02-1991-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Exelon Energy Power Team.

A copy of this filing was sent to Exelon Energy Power Team.

Comment Date: June 21, 2002.

12. Midwest Independent Transmission System Operator, Inc.

[Docket No. ER02-1992-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Nordic Electric, LLC.

A copy of this filing was sent to Nordic Electric, LLC.

Comment Date: June 21, 2002.

13. Midwest Independent Transmission System Operator, Inc.

[Docket No. ER02-1993-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by DTE Energy Marketing.

A copy of this filing was sent to DTE Energy Marketing.

Comment Date: June 21, 2002.

14. Midwest Independent Transmission System Operator, Inc.

[Docket No. ER02-1994-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Consumers Energy Company d/b/a/ Consumers Energy Traders.

A copy of this filing was sent to Consumers Energy Company d/b/a/ Consumers Energy Traders.

Comment Date: June 21, 2002.

15. Midwest Independent Transmission System Operator, Inc.

[Docket No. ER02-1995-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by California Electric Marketing LLC.

A copy of this filing was sent to California Electric Marketing LLC.

Comment Date: June 21, 2002.

16. Midwest Independent Transmission System Operator, Inc.

[Docket No. ER02-1996-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Nordic Marketing LLC.

A copy of this filing was sent to Nordic Marketing LLC.

Comment Date: June 21, 2002.

17. Midwest Independent Transmission System Operator, Inc.

[Docket No. ER02-1997-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Conectiv Energy Supply, Inc.

A copy of this filing was sent to Conectiv Energy Supply, Inc.

Comment Date: June 21, 2002.

18. Midwest Independent Transmission System Operator, Inc.

[Docket No. ER02-1998-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Northern Indiana Public Service Company.

A copy of this filing was sent to Northern Indiana Public Service Company.

Comment Date: June 21, 2002.

19. Midwest Independent Transmission System Operator, Inc.

[Docket No. ER02-1999-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by NRG Power Marketing.

A copy of this filing was sent to NRG Power Marketing.

Comment Date: June 21, 2002.

20. Midwest Independent Transmission System Operator, Inc.

[Docket No. ER02-2000-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Illinois Power Company.

A copy of this filing was sent to Illinois Power Company.

Comment Date: June 21, 2002.

21. Midwest Independent Transmission System Operator, Inc.

[Docket No. ER02-2002-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Duke Energy Corporation.

A copy of this filing was sent to Duke Energy Corporation.

Comment Date: June 21, 2002.

22. Midwest Independent Transmission System Operator, Inc.

[Docket No. ER02-2003-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Coral Power L.L.C.

A copy of this filing was sent to Coral Power L.L.C.

Comment Date: June 21, 2002.

23. Midwest Independent Transmission System Operator, Inc.

[Docket No. ER02-2004-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by CMS MS&T Michigan L.L.C.

A copy of this filing was sent to CMS MS&T Michigan L.L.C.

Comment Date: June 21, 2002.

24. Midwest Independent Transmission System Operator, Inc.

[Docket No. ER02-2005-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Lansing Board of Water & Light.

A copy of this filing was sent to Lansing Board of Water & Light.

Comment Date: June 21, 2002.

25. Midwest Independent Transmission System Operator, Inc.

[Docket No. ER02-2006-000]

Take notice that on May 31, 2002, the Midwest Independent Transmission System Operator, Inc. (Midwest ISO) pursuant to Section 205 of the Federal Power Act and Section 35.13 of the Federal Energy Regulatory Commission's regulations, 18 CFR 35.13, submitted for filing a Network Service Agreement for transmission service by Medford Electric Utility.

A copy of this filing was sent to Medford Electric Utility.

Comment Date: June 21, 2002.

26. Public Service Company of New Mexico

[Docket Nos.TX00-1-004 and ER00-896-004]

Take notice that on May 28, 2002, the Public Service Company of New Mexico (PNM) submitted a Compliance Filing pursuant to the Federal Energy Regulatory Commission's (Commission) “Final Order Directing Transmission Services” issued on April 29, 2002. The Order directs PNM to incorporate revisions to the PNM Open Access Transmission Tariff necessary to provide the transmission service that the Commission also directs PNM to provide to the Western Area Power Administration in the April 29, 2002 Order. PNM is submitting the filing to comply with the Order, but not for approval or effectiveness as a basis for providing service. PNM's filing is available for public inspection at its offices in Albuquerque, New Mexico.

PNM filed an amendment to the above-referenced filing on May 29, 2002, to remove an extraneous agreement that was unrelated to the compliance filing and was inadvertently included.

Copies of the filing have been sent to all Parties on the official Service Lists, the New Mexico Public Regulation Commission and the New Mexico Attorney General.

Comment Date: June 18, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-15123 Filed 6-14-02; 8:45 am]

BILLING CODE 6717-01-P